DEPARTMENT OF DEFENSE

Office of the Secretary

Announce Public Meeting of the Defense Advisory Committee on Military Compensation

AGENCY: Department of Defense.

ACTION: Notice.

SUMMARY: Name of Committee: The Defense Advisory Committee on Military Compensation (DACMC).

Committee Membership: Chairman: ADM (Ret) Donald L. Pilling. Members: Dr. John P. White; Gen (Ret) Lester L. Lyles; Mr. Frederic W. Cook; Dr. Walter Oi; Dr. Martin Anderson; and Mr. Joseph E. Jannotta.

General Function of the Committee: The Committee will provide the Secretary of Defense, through the Under Secretary of Defense (Personnel and Readiness), with assistance and advice on matters pertaining to military compensation. The Committee will examine what types of military compensation and benefits are the most effective for meeting the needs of the Nation.

Date and Time: Wednesday, July 20, 2005, from 10 a.m. to 12 p.m. (morning session) and 1 p.m. to 3 p.m. (afternoon session).

Location: Crystal City Hilton, 2399 Jefferson Davis Highway, Arlington, VA 22202.

Contact Person: Mr. Terry Mintz, Designated Federal Official, Defense Advisory Committee on Military Compensation, 2521 S. Clark Street, Arlington, VA 22202. Telephone (703) 699-2700.

Agenda: On July 20, 2005, from 10 a.m. to 12 p.m. and 1 p.m. to 3 p.m., the Committee will discuss various aspects of the military pay and benefits system, specifically concerning issues identified during fact-finding briefings conducted at the June meeting.

Procedure: Public participation in Committee discussions at this meeting will not be permitted. Written submissions of data, information, and views may be sent to the Committee's contact person at the address shown. Submissions be received by close of business July 15, 2005. Persons attending are advised that the Committee is not responsible for providing access to electrical outlets.

FOR FURTHER INFORMATION CONTACT: Mr. Terry Mintz at (703) 699-2700.

Dated: June 16, 2005.
L.M. Bynum,
Alternate OSD Federal Register Liaison Officer, Department of Defense.

[FR Doc. 05-12244 Filed 6-21-05; 8:45 am]

BILLING CODE 5001-06-M